DEPARTMENT OF LABOR

Employment and Training Administration

Agency Information Collection Activities; Comment Request; Required Elements of an Unemployment Insurance (UI) Reemployment Services and Eligibility Assessments (RESEA) Grant State Plan

ACTION: Notice.

SUMMARY: The Department of Labor's (DOL) Employment and Training Administration (ETA) is soliciting comments concerning a proposed extension for the authority to conduct the information collection request (ICR) titled, “Required Elements of an Unemployment Insurance (UI) Reemployment Services and Eligibility Assessments (RESEA) Grant State Plan.” This comment request is part of continuing Departmental efforts to reduce paperwork and respondent burden in accordance with the Paperwork Reduction Act of 1995 (PRA).

DATES: Consideration will be given to all written comments received by June 13, 2022.

ADDRESSES: A copy of this ICR with applicable supporting documentation, including a description of the likely respondents, proposed frequency of response, and estimated total burden, may be obtained free by contacting Ellen Wright by telephone at (202) 693-9995, TTY 1-877-889-5627 (this is not a toll-free number), or by email at Wright.Ellen.d@dol.gov.

Submit written comments about, or requests for a copy of, this ICR by mail or courier to the U.S. Department of Labor, Employment and Training Administration, Office of Unemployment Insurance Room S-4524, 200 Constitution Avenue NW, Washington, DC 20210; by email: Burns.Lawrence@dol.gov, or by fax (202) 693-3975.

FOR FURTHER INFORMATION CONTACT: Lawrence Burns by telephone at (202) 693-3141 (this is not a toll-free number) or by email at Burns.Lawrence@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The federal-state UI program is a required partner in the comprehensive, integrated workforce system. Individuals who have lost employment through no fault of their own and have earned sufficient wage credits may receive UI benefits if they meet initial and continuing eligibility requirements. Since 2005, one of the ways that the Department and participating state UI agencies have been addressing individual reemployment needs of UI claimants and working to prevent and detect UI improper payments is through the voluntary UI Reemployment and Eligibility Assessment (REA) program. Beginning in FY 2015, states transitioned from REA to the voluntary RESEA program.

The Bipartisan Budget Act of 2018, Public Law 115-123 (BBA), enacted on February 9, 2018, included amendments to the Social Security Act (SSA) creating a permanent authorization for the RESEA program. The RESEA provisions are contained in Section 30206 of the BBA, enacting new section 306 of the SSA. Section 306(e), SSA, provides the authorization and specific requirements for an annual RESEA state plan. To receive an RESEA grant, a state must submit an annual RESEA state plan that responds to all required elements and is approved by the Secretary of Labor. In 2019, ETA developed this state plan data collection to closely align with the statutory annual report requirements detailed in Section 306(3), SSA, and the essential administrative information necessary to complete the review, execution, and oversight of RESEA grants. ETA proposes to renew this data collection with several revisions intended to reflect recent changes to the RESEA program, to remove elements that are no longer routinely used to support grant management, and to provide states with the opportunity to include additional narrative descriptions that more fully reflect the state's planned RESEA activities and the economic or other factors that the state considered during the planning process. These proposed revisions include:

• Narrative boxes will be added to plan elements to allow states to provide additional information, clarifications, or other information relevant for the Department's wholistic review of planned RESEA activities;

• All response length limitations will be removed;

• Elements related to service delivery strategies will be revised to reflect recent program changes that allow for virtual and remote services;

• Information about administrative and staff-costs associated with specific RESEA services will no longer be collected; and

• To support the fiscal year 2023 implementation of section 303(c)(2), SSA, which requires states to devote a specific percentage of their RESEA funding to evidence-based components with a high or moderate causal rating that show a demonstrated capacity to improve employment and earnings outcomes for program participants, elements identifying planned evidence-based components will be revised to include funding-level information.

42 U.S.C. 506(e) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB No. 1205-0538.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Required Elements of an Unemployment Insurance (UI) Reemployment Services and Eligibility Assessments (RESEA) Grant State Plan.

Form: Annual RESEA State Plan Template.

OMB Control Number: 1205-0538.

Affected Public: State Workforce Agencies.

Estimated Number of Respondents: 53.

Frequency: Annual.

Total Estimated Annual Responses: 53.

Estimated Average Time per Response: 44 hours.

Estimated Total Annual Burden Hours: 2,332.

Total Estimated Annual Other Cost Burden: $0.

Authority: 44 U.S.C. 3506(c)(2)(A).

Angela Hanks,
Acting Assistant Secretary for Employment and Training, Labor.

[FR Doc. 2022-07972 Filed 4-13-22; 8:45 am]

BILLING CODE 4510-FW-P